DEPARTMENT OF JUSTICE

Drug Enforcement Administration

Importer of Controlled Substances; Notice of Registration; Catalent Pharma Solutions, Inc.

Correction

In notice document 2012-19202 appearing on page 47114 in the issue of Tuesday, August 7, 2012, make the following correction:

On page 47114, in the first column, the document heading should appear as set forth above.

[FR Doc. C1-2012-19202 Filed 8-17-12; 8:45 am]

BILLING CODE 1505-01-D